DEPARTMENT OF AGRICULTURE

U.S. Codex Office

Codex Alimentarius Commission: Meeting of the Codex Alimentarius Commission

AGENCY: U.S. Codex Office, USDA.

ACTION: Notice of public meeting and request for comments.

SUMMARY: The U.S. Codex Office is sponsoring a public meeting on October 18, 2023, from 1:00-4:00 p.m. EDT. The objective of the public meeting is to provide information and receive public comments on agenda items and draft U.S. positions to be discussed at the 46th Session of the Codex Alimentarius Commission (CAC46), which will meet in Rome, Italy from November 27, 2023 to December 2, 2023. The U.S. Manager for Codex Alimentarius and the Under Secretary for Trade and Foreign Agricultural Affairs recognize the importance of providing interested parties the opportunity to obtain background information on the 46th Session of the CAC and to address items on the agenda.

DATES: The public meeting is scheduled for October 18, 2023, from 1:00-4:00 p.m. EDT.

ADDRESSES: The public meeting will take place via Video Teleconference only. Documents related to the 46th Session of the CAC will be accessible via the internet at the following address: https://www.fao.org/fao-who-codexalimentarius/meetings/detail/en/?meeting=CAC&session=46.

Mary Frances Lowe, U.S. Delegate to the 46th Session of CAC, invites interested U.S. parties to submit their comments electronically to the following email address: maryfrances.lowe@usda.gov.

Registration: Attendees may register to attend the public meeting at the following link: https://www.zoomgov.com/meeting/register/vJItcuqgrzsuHOvxmm8j2MedkvGy-3fZOiA. After registering, you will receive a confirmation email containing information about joining the meeting.

For further information about the 46th session of CAC, contact U.S. Delegate, Mary Frances Lowe, U.S. Manager for Codex Alimentarius, Office of the Under Secretary for Trade and Foreign Agricultural Affairs, U.S. Department of Agriculture, (202) 205-7760, maryfrances.lowe@usda.gov. For an additional contact regarding the public meeting, contact the U.S. Codex Office by email at: uscodex@usda.gov.

SUPPLEMENTARY INFORMATION:

Background

The Codex Alimentarius Commission was established in 1963 by two United Nations organizations: the Food and Agriculture Organization (FAO) and the World Health Organization (WHO). Through adoption of food standards, codes of practice, and other guidelines developed by its committees, and by promoting their adoption and implementation by governments, Codex seeks to protect the health of consumers and ensure fair practices in the food trade; promotes coordination of all food standards work undertaken by international governmental and nongovernmental organizations; determines priorities, initiates, and guides the preparation of draft standards; finalizes the standards elaborated and publishes them in the Codex Alimentarius (food code) either as regional or worldwide standards, wherever this is practicable; and amends published standards, as appropriate, in the light of new developments.

Issues To Be Discussed at the Public Meeting

The following items on the agenda for the 46th Session of CAC will be discussed during the public meeting:

• Report by the Chairperson on the 84th and 85th Sessions of the Executive Committee (including matters referred)

• Amendments to the Procedural Manual

• Work of Codex Committees (adoption, new work, revocation, discontinuation, and amendments to Codex texts proposed by the following committees):

○ Codex Committee on Food Hygiene

○ Codex Committee on Residues of Veterinary Drugs in Foods

○ Codex Committee on Nutrition and Foods for Special Dietary Uses

○ Codex Committee on Food Additives

○ Codex Committee on Contaminants in Foods

○ Codex Committee on Food Import and Export Inspection and Certification Systems

○ Codex Committee on Food Labelling

○ Codex Committee on Methods of Analysis and Sampling

○ Codex Committee on Pesticide Residues

○ Codex Committee on General Principles

○ FAO/WHO Regional Coordinating Committees

• Editorial amendments to Codex texts proposed by the Codex Secretariat

• Other matters related to Codex Subsidiary Bodies

• Application of the Statements of Principle concerning the role of science in the Codex decision-making process and the extent to which other factors are taken into account (SoP)

• New Food Sources and Production Systems

• Codex Budgetary and Financial Matters

• Matters arising from FAO and WHO

• Election of Chairperson and Vice-Chairpersons and Members Elected on a Geographical Basis to the Codex Executive Committee and appointment of Coordinators

• Designation of Countries responsible for appointing the Chairpersons of Codex Subsidiary Bodies

Relevant documents are or will be available at the following address: https://www.fao.org/fao-who-codexalimentarius/meetings/detail/en/?meeting=CAC&session=46.

Public Meeting

At the public meeting on October 18, 2023, draft U.S. positions on the agenda items will be described and discussed, and attendees will have the opportunity to pose questions and offer comments. Written comments may be offered at the meeting or sent to Mary Frances Lowe, U.S. Delegate to the 46th Session of CAC, at maryfrances.lowe@usda.gov. Written comments should state that they relate to activities of the 46th Session of CAC.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on September 5, 2023.
Mary Frances Lowe,
U.S. Manager for Codex Alimentarius.

[FR Doc. 2023-19461 Filed 9-8-23; 8:45 am]

BILLING CODE P